DEPARTMENT OF AGRICULTURE

Farm Service Agency

Public Meetings of Advisory Committee on Beginning Farmers and Ranchers

AGENCY: Farm Service Agency, USDA.

ACTION: Notice of public meetings.

SUMMARY: We are issuing this notice to advise the public that meetings of the Advisory Committee on Beginning Farmers and Ranchers (Committee) will be held to discuss various beginning farmer and rancher issues.

DATES: The public meetings will be held July 9-10, 2008. The first meeting, on July 9, 2008, will begin at 8 a.m. and end by 5:30 p.m. The second meeting, on July 10, 2008, will begin at 8 a.m. and end by 4 p.m. All times noted are Eastern Standard Time (EST). See SUPPLEMENTARY INFORMATION for oral presentation submission date.

ADDRESSES: All meetings will be held at the Sofitel Hotel, 806 15th Street, Washington, DC, (202) 730-8800. Written requests to make oral presentations must be sent to: Mark Falcone, Designated Federal Official for the Advisory Committee on Beginning Farmers and Ranchers, Farm Service Agency, U.S. Department of Agriculture (USDA), 1400 Independence Avenue, SW., STOP 0522, Washington, DC 20250-0522; telephone (202) 720-1632; FAX (202) 690-1117; e-mail: mark.falcone@wdc.usda.gov. Persons with disabilities who require alternative means for communication (Braille, large print, audiotape, etc.) should contact the USDA Target Center at (202) 720-2600 (voice and TDD).

FOR FURTHER INFORMATION CONTACT: Mark Falcone at (202) 720-1632.

SUPPLEMENTARY INFORMATION: Section 5 of the Agricultural Credit Improvement Act of 1992 (Pub. L. 102-554) required the Secretary of Agriculture (the Secretary) to establish the Committee for the purpose of advising the Secretary on the following:

(1) The development of a program of coordinated financial assistance to qualified beginning farmers and ranchers, required by section 309(i) of the Consolidated Farm and Rural Development Act (7 U.S.C. 1929) (under the program, Federal and State beginning farmer programs provide financial assistance to beginning farmers and ranchers);

(2) Methods of maximizing the number of new farming and ranching opportunities created through the program;

(3) Methods of encouraging States to participate in the program;

(4) The administration of the program; and

(5) Other methods of creating new farming or ranching opportunities.

The Committee meets annually and all meetings are open to the public. The duration of the Committee is indefinite. Earlier meetings of the Committee, beginning in 1999, provided an opportunity for members to exchange ideas on ways to increase opportunities for beginning farmers and ranchers. Members discussed various issues and drafted numerous recommendations, which were provided to the Secretary.

Agenda items for the July 2008 meetings include:

(1) Discussions concerning provisions of the Food, Conservation, and Energy Act of 2008 (Pub. L. 110-234, May 22, 2008) (also referred to commonly as the 2008 Farm Bill);

(2) USDA's response to the recommendations made in the September 2007 Government Accountability Office report entitled: “BEGINNING FARMERS: Additional Steps Needed to Demonstrate the Effectiveness of USDA Assistance”;

(3) A presentation of a national project focused on farmland access, tenure, and succession funded by USDA's Cooperative State Research, Education, and Extension Service;

(4) Brief presentations by several Advisory Committee members on: The Wisconsin School for Beginning Dairy and Livestock Farmers; innovative opportunities for beginning farmers and ranchers in Nebraska; and new immigrant farming initiatives; and

(5) Status of previous committee recommendations and drafting new recommendations.

Attendance is open to all interested persons, but limited to space available. Anyone wishing to make an oral statement should submit a request in writing (letter, fax, or e-mail) to Mark Falcone at the above address. Statements should be received no later than July 3, 2008. Requests should include the name and affiliation of the individual who will make the presentation and an outline of the issues to be addressed. The floor will be open to oral presentations beginning at 1:15 p.m. EST on July 9, 2008.

Oral Statements will be limited to 5 minutes, and presenters will be approved on a first-come, first-served basis.

Persons with disabilities who require special accommodations to attend or participate in the meetings should contact Mark Falcone by July 3, 2008.

Signed in Washington, DC, on June 19, 2008.
Thomas B. Hofeller,
Acting Administrator, Farm Service Agency.

[FR Doc. E8-14229 Filed 6-23-08; 8:45 am]

BILLING CODE 3410-05-P